DEPARTMENT OF COMMERCE

International Trade Administration

Proposed Information Collection; Comment Request; Certified Trade Fair Program: Application

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 29, 2008.

ADDRESSES: Direct all written comments to Diana Hynek, Departmental Paperwork Clearance Officer, Department of Commerce, Room 6625, 14th & Constitution Avenue, NW., Washington, DC 20230 or via the Internet at dHynek@doc.gov.

FOR FURTHER INFORMATION CONTACT: Request for additional information or copies of the information collection instrument and instructions should be directed to: Michael Thompson, Trade Fair Certification Program, U.S. Commercial Service, Ronald Reagan Building, 1300 Pennsylvania Avenue, NW., Suite 800 M, Washington, DC 20230; Phone number: (202) 482-0671; fax number: (202) 482-7800; e-mail: michael.thompson@mail.doc.gov.

SUPPLEMENTARY INFORMATION:

I. Abstract

The Trade Fair Certification (TFC) Program is a service of the U.S. Department of Commerce (DOC) that provides DOC endorsement and support for high quality international trade fairs that are organized by private-sector firms. The TFC Program seeks to broaden the base of U.S. firms, particularly new-to-market companies by introducing them to key international trade fairs where they can achieve their export objectives. Those objectives include one or more of the following: direct sales; identification of local agents or distributors; market research and exposure; and joint venture and licensing opportunities for their products and services. An application is required to make a determination that the trade fair organizer is qualified to organize and manage U.S. exhibitions at an international trade fair, and to ensure that the fair is a good marketing opportunity for U.S. companies.

II. Method of Collection

Form ITA-4100P is sent by request to organizers of international trade fairs.

III. Data

OMB Control Number: 0625-0130.

Form Number(s): ITA-4100P.

Type of Review: Regular submission.

Affected Public: Business or other for-profit organizations.

Estimated Number of Respondents: 120.

Estimated Time per Response: 3 hours.

Estimated Total Annual Burden Hours: 360.

Estimated Total Annual Cost to Public: $12,600.

IV. Request for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: May 27, 2008.
Gwellnar Banks,
Management Analyst, Office of the Chief Information Officer.

[FR Doc. E8-12082 Filed 5-29-08; 8:45 am]

BILLING CODE 3510-FP-P